DEPARTMENT OF DEFENSE

Office of the Secretary

[Docket ID: DOD-2009-OS-0028]

Privacy Act of 1974; Systems of Records

AGENCY: Defense Finance and Accounting Service, DoD.

ACTION: Notice to amend a system of records.

SUMMARY: The Defense Finance and Accounting Service (DFAS) is proposing to amend a system of records notice in its inventory of record systems subject to the Privacy Act of 1974, (5 U.S.C. 552a), as amended.

DATES: This proposed action will be effective without further notice on April 1, 2009 unless comments are received which would result in a contrary determination.

ADDRESSES: Send comments to the Defense Finance and Accounting Service, FOIA/PA Program Manager, Corporate Communications and Legislative Liaison, 8899 E. 56th Street, Indianapolis, IN 46249-0150.

FOR FURTHER INFORMATION CONTACT: Ms. Linda Krabbenhoft at (303) 589-3510.

SUPPLEMENTARY INFORMATION: The Defense Finance and Accounting Service systems of notices subject to the Privacy Act of 1974 (5 U.S.C. 552a), as amended, have been published in the Federal Register and are available from the address above.

The specific changes to the records system being amended is set forth below followed by the notice, as amended, published in its entirety. The proposed amendment is not within the purview of subsection (r) of the Privacy Act of 1974, (5 U.S.C. 552a), as amended, which requires the submission of a new or altered system report.

Morgan E. Frazier,
Alternate OSD Federal Register Liaison Officer, Department of Defense.

T7332c

SYSTEM NAME:

Bankruptcy Processing Files (August 24, 2005, 70 FR 49587)

CHANGES:

* * * * *

SYSTEM LOCATION:

Delete entry and replace with “Defense Finance and Accounting Service—Cleveland, 1240 East Ninth Street, Cleveland, OH 44199-2055.”

* * * * *

CATEGORIES OF RECORDS IN THE SYSTEM:

Delete entry and replace with “Individual's name, Social Security number (SSN), court notices, financial statements, certificates for deductions; agreements, military pay vouchers, correspondence between DFAS General Counsel and subordinate units, United States Attorneys, United States District Courts, and other Government agencies relevant to the proceeding.”

AUTHORITY FOR MAINTENANCE OF THE SYSTEM:

Delete entry and replace with “5 U.S.C. 301, Departmental Regulations, 31 U.S.C. 3711, Collection and Compromise; 11 U.S.C. Chapter 5, Creditors and Claims; and E.O. 9397 (SSN).”

* * * * *

ROUTINE USES OF RECORDS MAINTAINED IN THE SYSTEM, INCLUDING CATEGORIES OF USERS AND THE PURPOSES OF SUCH USES:

Delete sentence and replace with “The ‘DoD Blanket Routine Uses’ published at the beginning of the DFAS compilation of systems of records notices apply to this system.”

* * * * *

STORAGE:

Delete entry and replace with “Paper records in file folders and electronic storage media.”

* * * * *

SAFEGUARDS:

Delete entry and replace with “Records are maintained in a controlled facility. Physical entry is restricted by the use of locks, guards, and is accessible only to authorized personnel. Access to records is limited to person(s) responsible for servicing the record in performance of their official duties and who are properly screened and cleared for need-to-know. Access to computerized data is restricted by passwords, which are changed periodically.”

RETENTION AND DISPOSAL:

Delete entry and replace with “Temporary records are cut off at the end of the calendar year and retained from 180 days to 2 years after cut off. Permanent records are cutoff at the end of the calendar year and retained on site for 5 years and then retired to the appropriate Federal Records Center. Records are destroyed by degaussing, shredding, tearing, or pulping.”

SYSTEM MANAGER(S) AND ADDRESS:

Delete entry and replace with “Assistant General Counsel for Garnishment Operations, Defense Finance and Accounting Service—Cleveland, 1240 East Ninth Street, Cleveland, OH 44199-8002.”

NOTIFICATION PROCEDURE:

Delete entry and replace with “Individuals seeking to determine whether information about themselves is contained in this system of records should address written inquiries to the Defense Finance and Accounting Service, Freedom of Information Act/Privacy Act Program Manager, Corporate Communications and Legislative Liaison, 8899 E. 56th Street, Indianapolis, IN 46249-0150.

Individuals should provide name and Social Security Number.”

RECORD ACCESS PROCEDURES:

Delete entry and replace with “Individuals seeking access to information about themselves contained in this system of records should address written inquiries to the Defense Finance and Accounting Service, Freedom of Information Act/Privacy Act Program Manager, Corporate Communications and Legislative Liaison, 8899 E. 56th Street, Indianapolis, IN 46249-0150.

Individuals should provide name and Social Security Number.”

CONTESTING RECORD PROCEDURES:

Delete entry and replace with “The DFAS rules for accessing records, for contesting contents and appealing initial agency determinations are published in DFAS Regulation, DoD 5400.11-R; 32 CFR part 324; or may be obtained from the Freedom of Information Act/Privacy Act Program Manager, Defense Finance and Accounting Service, Corporate Communications and Legislative Liaison, 8899 E. 56th Street, Indianapolis, IN 46249-0150.”

* * * * *

T7332c

SYSTEM NAME:

Bankruptcy Processing Files

SYSTEM LOCATION:

Defense Finance and Accounting Service—Cleveland, 1240 East Ninth Street, Cleveland, OH 44199-2055.

CATEGORIES OF INDIVIDUALS COVERED BY THE SYSTEM:

Army, Air Force, Marine, and Navy military members, and Department of Defense civilian employees for whom bankruptcy notice has been received.

Employees of the Executive Office of the President for whom bankruptcy notice has been received.

CATEGORIES OF RECORDS IN THE SYSTEM:

Individual's name, Social Security number (SSN), court notices, financial statements, certificates for deductions; agreements, military pay vouchers, correspondence between DFAS General Counsel and subordinate units, United States Attorneys, United States District Courts, and other Government agencies relevant to the proceeding.

AUTHORITY FOR MAINTENANCE OF THE SYSTEM:

5 U.S.C. 301, Departmental Regulations, 31 U.S.C. 3711, Collection and Compromise; 11 U.S.C. Chapter 5, Creditors and Claims; and E.O. 9397 (SSN).

PURPOSE(S):

To maintain such information pertaining to individuals who have filed for bankruptcy so that the Department of Defense may take appropriate action, either as an employer or a creditor, to protect its legal obligations and interests arising out of, or as a result of, the bankruptcy proceeding.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To Executive and Judicial Branch entities to provide necessary and appropriate information for purposes related to, or in furtherance of, judicial or administrative proceedings involving an individual who has filed for bankruptcy.

The `DoD Blanket Routine Uses' published at the beginning of the DFAS compilation of systems of records notices apply to this system.

DISCLOSURE TO CONSUMER REPORTING AGENCIES:

Disclosures pursuant to 5 U.S.C. 552a(b)(12) may be made from this system to ‘consumer reporting agencies' as defined in the Fair Credit Reporting Act, 15 U.S.C. 1681a(f) or the Federal Claims Collection Act of 1966, 31 U.S.C. 3701(a)(3).

The disclosure is limited to information necessary to establish the identity of the individual, including name, address, and taxpayer identification number (Social Security Number); the amount, status, and history of the claim; and the agency or program under which the claim arose for the sole purpose of allowing the consumer reporting agency to prepare a commercial credit report.

POLICIES AND PRACTICES FOR STORING, RETRIEVING, ACCESSING, RETAINING, AND DISPOSING OF RECORDS IN THE SYSTEM:

STORAGE:

Paper records in file folders and electronic storage media.

RETRIEVABILITY:

Filed by individual's name and/or Social Security Number.

SAFEGUARDS:

Records are maintained in a controlled facility. Physical entry is restricted by the use of locks, guards, and is accessible only to authorized personnel. Access to records is limited to person(s) responsible for servicing the record in performance of their official duties and who are properly screened and cleared for need-to-know. Access to computerized data is restricted by passwords, which are changed periodically.

RETENTION AND DISPOSAL:

Temporary records are cut off at the end of the calendar year and retained from 180 days to 2 years after cut off. Permanent records are cutoff at the end of the calendar year and retained on site for 5 years and then retired to the appropriate Federal Records Center. Records are destroyed by degaussing, shredding, tearing, or pulping.

SYSTEM MANAGER(S) AND ADDRESS:

Assistant General Counsel for Garnishment Operations, Defense Finance and Accounting Service—Cleveland, 1240 East Ninth Street, Cleveland, OH 44199-8002.

NOTIFICATION PROCEDURE:

Individuals seeking to determine whether information about themselves is contained in this system of records should address written inquiries to the Defense Finance and Accounting Service, Freedom of Information Act/Privacy Act Program Manager, Corporate Communications and Legislative Liaison, 8899 E. 56th Street, Indianapolis, IN 46249-0150.

Individuals should provide name and Social Security Number.

RECORD ACCESS PROCEDURES:

Individuals seeking access to information about themselves contained in this system of records should address written inquiries to the Defense Finance and Accounting Service, Freedom of Information Act/Privacy Act Program Manager, Corporate Communications and Legislative Liaison, 8899 E. 56th Street, Indianapolis, IN 46249-0150.

Individuals should provide name and Social Security Number.

CONTESTING RECORD PROCEDURES:

The DFAS rules for accessing records, for contesting contents and appealing initial agency determinations are published in DFAS Regulation 5400.11-R; 32 CFR part 324; or may be obtained from the Freedom of Information Act/Privacy Act Program Manager, Defense Finance and Accounting Service, Corporate Communications and Legislative Liaison, 8899 E. 56th Street, Indianapolis, IN 46249-0150.

RECORD SOURCE CATEGORIES:

From courts, Government records, and similar documents and sources relevant to the proceeding.

EXEMPTIONS CLAIMED FOR THE SYSTEM:

None.

[FR Doc. E9-4330 Filed 2-27-09; 8:45 am]

BILLING CODE 5001-06-P